DEPARTMENT OF COMMERCE

National Oceanic and Atmospheric Administration

ENVIRONMENTAL PROTECTION AGENCY

Coastal Nonpoint Pollution Control Program: Intent To Find That Oregon Has Failed To Submit an Approvable Coastal Nonpoint Pollution Control Program

AGENCY: National Oceanic and Atmospheric Administration, U.S. Department of Commerce, and the U.S. Environmental Protection Agency.

ACTION: Notice of intent to find that Oregon has failed to submit an approvable coastal nonpoint program.

SUMMARY: The National Oceanic and Atmospheric Administration (NOAA) and the U.S. Environmental Protection Agency (EPA) invite public comment on the intent of the two agencies to find that Oregon has failed to submit an approvable Coastal Nonpoint Pollution Control Program. The Coastal Zone Act Reauthorization Amendments (CZARA) directs states and territories with coastal zone management programs previously approved under Section 306 of the Coastal Zone Management Act to develop and implement coastal nonpoint programs, which must be submitted to NOAA and EPA for approval. Prior to making such a finding, NOAA and EPA invite public input on the two federal agencies' reasoning particularly because, among other things, a finding that a state has failed to submit an approvable program would lead to adverse financial consequences for the State in terms of federal grant funding.

DATES: Individuals or organizations wishing to submit comments on the draft findings document should do so by March 20, 2014.

ADDRESSES: Comments should be made to: Joelle Gore, Acting Chief, Coastal Programs Division (N/ORM3), Office of Ocean and Coastal Resource Management, NOS, NOAA, 1305 East-West Highway, Silver Spring, Maryland, 20910, phone (301) 713-3155, x177, email joelle.gore@noaa.gov.

FOR FURTHER INFORMATION CONTACT: Allison Castellan, Coastal Programs Division, (N/ORM3), Office of Ocean and Coastal Resource Management, NOS, NOAA, 1305 East-West Highway, Silver Spring, Maryland, 20910, phone (301) 713-3155, x125, email Allison.Castellan@noaa.gov.

(Federal Domestic Assistance Catalog 11.419 Coastal Zone Management Program Administration)

SUPPLEMENTARY INFORMATION: NOAA and EPA (federal agencies) propose to find, and invite public comment on the proposed findings, that Oregon has failed to submit an approvable coastal nonpoint program. Section 6217(a) of the Coastal Zone Act Reauthorization Amendments (CZARA), 16 U.S.C. section 1455b(a), requires that each state (or territory) with a coastal zone management program previously approved under section 306 of the Coastal Zone Management Act must prepare and submit to the federal agencies a coastal nonpoint pollution control program for approval. Coastal nonpoint pollution control programs were to be submitted for approval by July 1995. Oregon submitted its program to the federal agencies for approval. The federal agencies provided public notice of and invited public comment on their proposal to approve, with conditions, the Oregon program (62 FR 6216). The federal agencies approved the program by letter dated January 13, 1998, subject to the conditions specified in the letter (63 FR 11655).

Over time, Oregon made incremental changes to its program in order to satisfy the identified conditions. As explained in the proposed findings document, however, the federal agencies propose to find that the State has not yet submitted an approvable program to meet the full range of conditions and the federal agencies intend to find that the State has failed to submit a program that is approvable under CZARA. The proposed findings document describes why the State program has not yet satisfied three of the remaining conditions that relate to controlling adverse water quality impacts from forestry, new development, and onsite sewage disposal systems. The federal agencies also invite public comment on whether the State program includes agricultural management measures necessary to achieve and maintain water quality standards as provided in CZARA section 6217(b)(3), 16 U.S.C. section 1455b(b)(3).

The federal agencies have not, in the past, found that a state has failed to submit an approvable program under CZARA. The proposed findings document that would support a final determination by each federal agency of a failure is available for a 90-day public comment period. The proposed findings document and supporting information used to make this decision is available for download on the NOAA Web site at http://coastalmanagement.noaa.gov/czm/6217/findings.html. Hard copies will be available at: U.S. Environmental Protection Agency, Oregon Operations Office, 805 SW Broadway, Suite 500, Portland, Oregon, 97205, Tom Townsend, phone (503) 326-3250.

Dated: December 13, 2013.
Holly A. Bamford,
Assistant Administrator for Ocean Services, National Oceanic and Atmospheric Administration.
Nancy K. Stoner,
Acting Assistant Administrator, Office of Water, Environmental Protection Agency.

[FR Doc. 2013-30297 Filed 12-19-13; 8:45 am]

BILLING CODE 3510-08-P